DEPARTMENT OF LABOR

Employment and Training Administration

[TA-W-52,497]

Renfro Corp., Pulaski Plant, Pulaski, VA; Notice of Termination of Investigation

Pursuant to section 221 of the Trade Act of 1974, an investigation was initiated on August 11, 2003 in response to a worker petition which was filed by a company official on behalf of workers at Renfro Corporation, Pulaski Plant, Pulaski, Virginia (TA-W-52,497).

The petitioner has requested that the petition be withdrawn. Consequently, further investigation in this case would serve no purpose, and the investigation has been terminated.

Signed in Washington, DC, this 22nd day of August, 2003.
Linda G. Poole,
Certifying Officer, Division of Trade Adjustment Assistance.

[FR Doc. 03-24725 Filed 9-29-03; 8:45 am]

BILLING CODE 4510-30-P